NUCLEAR REGULATORY COMMISSION

Advisory Committee on Reactor Safeguards (ACRS); Subcommittee Meeting on Thermal-Hydraulic Phenomena; Notice of Meeting

The ACRS Subcommittee on Thermal-Hydraulic Phenomena will hold a meeting on November 14, 2007, at 11545 Rockville Pike, Rockville, Maryland, Room T-2B1.

The entire meeting will be open to public attendance, with the exception of portions that may be closed to discuss AREVA proprietary information pursuant to 5 U.S.C. 552b(c)(4).

The agenda for the subject meeting shall be as follows:

Wednesday, November 14, 2007—8:30 a.m. Until 12 Noon

The Subcommittee will review and comment on the proposed AREVA instability detect and suppress solution codes and methodology specified in the topical reports: (1) ANP-10262(P), Revision 0, “Enhanced Option III Long Term Stability Solution;” and (2) BAW-10255(P), Revision 2, “Cycle-specific DIVOM Methodology Using the RAMONA5-FA Code.” The Subcommittee will hear presentations by and hold discussions with representatives of the NRC staff, AREVA, and other interested persons regarding this matter. The Subcommittee will gather information, analyze relevant issues and facts, and formulate proposed positions and actions, as appropriate, for deliberation by the full Committee.

Members of the public desiring to provide oral statements and/or written comments should notify the Designated Federal Officer, Ms. Zena Abdullahi (Telephone: 301-415-8716) 5 days prior to the meeting, if possible, so that appropriate arrangements can be made. Electronic recordings will be permitted only during those portions of the meeting that are open to the public. Detailed procedures for the conduct of and participation in ACRS meetings were published in the Federal Register on September 26, 2007 (72 FR 54695).

Further information regarding this meeting can be obtained by contacting the Designated Federal Officer between 8:45 a.m. and 5:30 p.m. (ET). Persons planning to attend this meeting are urged to contact the above named individual at least 2 working days prior to the meeting to be advised of any potential changes to the agenda.

Dated: October 25, 2007.
Cayetano Santos,
Chief, Reactor Safety Branch, ACRS.

[FR Doc. E7-21432 Filed 10-30-07; 8:45 am]

BILLING CODE 7590-01-P